DEPARTMENT OF COMMERCE

International Trade Administration

[C-570-991]

Chlorinated Isocyanurates From the People's Republic of China: Final Results of Countervailing Duty Administrative Review; 2015

AGENCY: Enforcement and Compliance, International Trade Administration, Department of Commerce.

SUMMARY: The U.S. Department of Commerce (Commerce) has completed its administrative review of the countervailing duty (CVD) order on (chloro isos) from the People's Republic of China (China) for the January 1, 2015, through December 31, 2015, period of review (POR), and determines that countervailable subsidies are being provided to producers and exporters of chloro isos. The final net subsidy rates are listed below in “Final Results of Administrative Review.”

DATES: Applicable June 11, 2018.

FOR FURTHER INFORMATION CONTACT: Christian Llinas or Omar Qureshi, AD/CVD Operations, Office V, Enforcement and Compliance, International Trade Administration, U.S. Department of Commerce, 1401 Constitution Avenue NW, Washington, DC 20230; telephone 202.482.4877 or 202.482.5307, respectively.

SUPPLEMENTARY INFORMATION:

Background

On November 13, 2014, Commerce published the CVD Order on chloro isos from China.¹ On December 4, 2017, Commerce published the Preliminary Results of this administrative review in the Federal Register.² We invited interested parties to comment on the Preliminary Results. On January 16, 2018, we received case briefs from the petitioners,³ the Government of China (GOC), and from the mandatory respondents, Heze Huayi ⁴ and Kangtai.5 6 On January 29, 2018, we received rebuttal briefs from the petitioners, the GOC, and from the mandatory respondents, Heze Huayi and Kangtai.⁷

¹ See Chlorinated Isocyanurates from the People's Republic of China: Countervailing Duty Order, 79 FR 67424 (November 13, 2014).

² See Chlorinated Isocyanurates from the People's Republic of China: Preliminary Results of Countervailing Duty Administrative Review; 2015, 82 FR 57209 (December 4, 2017) and accompanying Issues and Decision Memorandum (Preliminary Results).

³ Bio-Lab, Inc., Clearon Corporation, and Occidental Chemical Corporation (collectively, “the petitioners”).

⁴ Heze Huayi Chemical Co., Ltd. (Heze Huayi).

⁵ Juancheng Kangtai Chemical Co., Ltd. (Kangtai).

⁶ See Petitioners' Letter, “Case Brief of Bio-Lab, Inc., Clearon Corp. and Occidental Chemical Corporation,” dated January 16, 2018; GOC's Letter, “GOC Administrative Case Brief: Second Administrative Review of the Countervailing Duty Order on Chlorinated Isocyanurates from the People's Republic of China (C-570-991),” dated January 16, 2018; and Heze Huayi and Kangtai's Letter, “Chlorinated Isocyanurates from the People's Republic of China: Case Brief,” dated January 16, 2018.

⁷ See Petitioners' Letter, “Rebuttal Brief of Bio-Lab, Inc., Clearon Corp. and Occidental Chemical Corporation.” dated January 29, 2018; GOC's Letter, “GOC Administrative Rebuttal Brief: Second Administrative Review of the Countervailing Duty Order on Chlorinated Isocyanurates from the People's Republic of China (C-570-991),” dated January 29, 2018; Heze Huayi and Kangtai's Letter, “Chlorinated Isocyanurates from the People's Republic of China: Rebuttal Brief,” dated January 29, 2018.

Scope of the Order

The products covered by the order are chloro isos, which are derivatives are cyanuric acid, described as chlorinated s-triazine triones.⁸ Chloro isos are currently classifiable under subheadings 2933.69.6015, 2933.69.6021, 2933.69.6050, 3808.50.4000, 3808.94.5000, and 3808.99.9500 of the Harmonized Tariff Schedule of the United States (HTSUS). The HTSUS subheadings are provided for convenience and customs purposes; the written product description of the scope of the order is dispositive.

⁸ For a complete description of the Scope of the Order, see Preliminary Results.

Analysis of Comments Received

All issues raised in the parties' briefs are listed in the Appendix to this notice and addressed in the Issues and Decision Memorandum. The Issues and Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Issues and Decision Memorandum can be accessed directly at http://enforcement.trade.gov/frn. The signed Issues and Decision Memorandum and the electronic version of the Issues and Decision Memorandum are identical in content.

Changes Since the Preliminary Results

Based on case briefs, rebuttal briefs, and all supporting documentation, we made a change to Heze Huayi's countervailable subsidy rate to account for transpositional errors made in Heze Huayi's calculations. We made no changes from the Preliminary Results.

Methodology

The Department conducted this review in accordance with section 751(a)(1)(A) of the Tariff Act of 1930, as amended (the Act). For each of the subsidy programs found countervailable, we find that there is a subsidy, i.e., a government-provided financial contribution that gives rise to a benefit to the recipient, and that the subsidy is specific.⁹ The Issues and Decision Memorandum contains a full description of the methodology underlying the Department's conclusions, including any determination that relied upon the use of adverse facts available pursuant to sections 776(a) and (b) of the Act.

⁹ See sections 771(5)(B) and (D) of the Act regarding financial contribution; section 771(5)(E) of the Act regarding benefit; and section 771(5A) of the Act regarding specificity.

Final Results of Review

In accordance with 19 CFR 351.221(b)(5), we determine the following net subsidy rates for the 2015 administrative review:

Company | Subsidy rate (percent)
Hebei Jiheng Chemical Co., Ltd | 25.19
Heze Huayi Chemical Co., Ltd | 2.84
Juancheng Kangtai Chemical Co., Ltd | 1.53

Assessment Rates

In accordance with 19 CFR 351.212(b)(2), Commerce intends to issue assessment instructions to U.S. Customs and Border Protection (CBP) 15 days after the date of publication of these final results of review, to liquidate shipments of subject merchandise produced and/or exported by the companies listed above, entered, or withdrawn from warehouse, for consumption on or after January 1, 2015, through December 31, 2015, at the ad valorem rates listed above.

Cash Deposit Instructions

In accordance with section 751(a)(1) of the Act, Commerce intends to instruct CBP to collect cash deposits of estimated countervailing duties in the amounts shown for each of the respective companies listed above. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these final results in accordance with sections 751(a)(1) and 777(i)(1) of the Act.

Dated: June 5, 2018.
Gary Taverman,
Deputy Assistant Secretary for Antidumping and Countervailing Duty Operations, performing the non-exclusive functions and duties of the Assistant Secretary for Enforcement and Compliance.

Appendix

List of Topics Discussed in the Final Decision Memorandum

I. Summary

II. Background

III. List of Interested Party Comments

IV. Scope of the Order

V. Changes Since the Preliminary Results

VI. Subsidies Valuation Information

VII. Benchmarks

VIII. Use of Facts Otherwise Available and Adverse Inferences

IX. Programs Determined to Be Countervailable

X. Programs Determined Not to Confer Measurable Benefits

XI. Programs Determined Not to Be Used During the POR

XII. Analysis of Comments

XIII. Conclusion

[FR Doc. 2018-12483 Filed 6-8-18; 8:45 am]

BILLING CODE 3510-DS-P